DEPARTMENT OF HOMELAND SECURITY

U.S. Customs and Border Protection

DEPARTMENT OF THE TREASURY

19 CFR Part 165

[USCBP-2016-0053; CBP Dec. 16-11]

RIN 1515-AE10

Investigation of Claims of Evasion of Antidumping and Countervailing Duties

AGENCY: U.S. Customs and Border Protection, Department of Homeland Security; Department of the Treasury.

ACTION: Interim final regulations; extension of comment period.

SUMMARY: This document provides an additional 60 days for interested parties to submit comments on the interim final rule that amended the U.S. Customs and Border Protection (CBP) regulations setting forth procedures for CBP to investigate claims of evasion of antidumping and countervailing duty orders in accordance with section 421 of the Trade Facilitation and Trade Enforcement Act of 2015. The interim final rule was published in the Federal Register on August 22, 2016, with comments due on or before October 21, 2016. To have as much public participation as possible in the formulation of the final rule, CBP is extending the comment period to December 20, 2016.

DATES: The comment period for the interim final rule published August 22, 2016, at 81 FR 56477, effective August 22, 2016, is extended. Comments must be received on or before December 20, 2016.

ADDRESSES: You may submit comments, identified by docket number, by one of the following methods:

• Federal eRulemaking Portal: http://www.regulations.gov. Follow the instructions for submitting comments via docket number USCBP-2016-0053.

• Mail: Trade and Commercial Regulations Branch, Regulations and Rulings, Office of Trade, U.S. Customs and Border Protection, 90 K Street NE., 10th Floor, Washington, DC 20229-1177.

Instructions: All submissions received must include the agency name and docket number for this rulemaking. All comments received will be posted without change to http://www.regulations.gov, including any personal information provided. For detailed instructions on submitting comments and additional information on the rulemaking process, see the “Public Participation” heading of the SUPPLEMENTARY INFORMATION section of this document.

Docket: For access to the docket to read background documents or comments received, go to http://www.regulations.gov. Submitted comments may also be inspected during regular business days between the hours of 9 a.m. and 4:30 p.m. at the Trade and Commercial Regulations Branch, Regulations and Rulings, Office of Trade, U.S. Customs and Border Protection, 90 K Street NE., 10th Floor, Washington, DC Arrangements to inspect submitted comments should be made in advance by calling Mr. Joseph Clark at (202) 325-0118.

FOR FURTHER INFORMATION CONTACT: Kevin M. McCann, Chief, Analytical Communications Branch, Office of Trade, U.S. Customs and Border Protection, 202-863-6078.

SUPPLEMENTARY INFORMATION:

Public Participation

Interested persons are invited to participate in this rulemaking by submitting written data, views, or arguments on all aspects of the interim rule. U.S. Customs and Border Protection (CBP) also invites comments that relate to the economic, environmental, or federalism effects that might result from this interim rule. Comments that will provide the most assistance to CBP in developing these regulations will reference a specific portion of the interim rule, explain the reason for any recommended change, and include data, information, or authority that support such recommended change. See ADDRESSES above for information on how to submit comments.

Background

On August 22, 2016, U.S. Customs and Border Protection (CBP) published in the Federal Register (81 FR 56477) an Interim Final Rule (CBP Dec. 16-11) that amended the CBP regulations setting forth procedures for CBP to investigate claims of evasion of antidumping and countervailing duty orders in accordance with section 421 of the Trade Facilitation and Trade Enforcement Act of 2015. The document solicited public comments in the interim rule, and requested that submitted comments be received by CBP on or before October 21, 2016.

Extension of Comment Period

With the goal of establishing the most effective and transparent procedures as possible for CBP to employ to investigate claims of evasion of antidumping and countervailing duty orders, CBP believes that it is very important to have as much public participation as possible in the formulation of the final rule that establishes those procedures for CBP. Therefore, CBP has decided to allow additional time for the public to submit comments on the final rule. Accordingly, the comment period is extended to December 20, 2016.

Dated: October 18, 2016.
Alice A. Kipel,
Executive Director, Regulations and Rulings Office of Trade, U.S. Customs and Border Protection.

[FR Doc. 2016-25489 Filed 10-20-16; 8:45 am]

BILLING CODE 9111-14-P